DEPARTMENT OF THE INTERIOR

National Park Service

National Register of Historic Places; Notification of Pending Nominations and Related Actions

Nominations for the following properties being considered for listing or related actions in the National Register were received by the National Park Service before March 14, 2008. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by April 15, 2008.

J. Paul Loether,
Chief, National Register of Historic Places/National Historic Landmarks Program.

GEORGIA

Fulton County

Peachtree Highlands—Peachtree Park Historic District, Roughly bounded by Piedmont & Peachtree Rds., GA 400 & MARTA N-S line., Atlanta, 08000325.

ILLINOIS

Du Page County

Schiller, Alfred A., House, 734 Lenox Rd., Glen Ellyn, 08000326.

McLean County

Sprague's Super Service, (Route 66 through Illinois MPS) 305 E. Pine St., Normal, 08000327.

IOWA

Dubuque County

Interstate Power Company Building, (Dubuque, Iowa MPS) 1000 Main; 131 W. 10th St., Dubuque, 08000328.

Plymouth County

Foster Park Historic District, 500-900 blks. Central Ave. S. & blocks around Foster Park, Le Mars, 08000329.

Polk County

Grocers Wholesale Company Building, 22 W. 9th St., Des Moines, 08000330.

Scott County

Community Building, 428 S. River Dr., Princeton, 08000331.

Woodbury County

Simmons Hardware Company Warehouse, 323 Water St., Sioux City, 08000332.

MISSOURI

Taney County

Parnell, Samuel T. and Mary B., House, 220 Angels Trail, Branson, 08000333.

MONTANA

Glacier County

Logan Pass Visitor Center, Going-to-the-Sun Rd., 18 mi. W. of U.S. 89, Saint Mary, 08000334.

Saint Mary Visitor Center, Entrance Station and Checking Stations, Going-to-the-Sun Rd., 5 mi. E. of U.S. 89, Saint Mary, 08000335.

NEW JERSEY

Monmouth County

Brielle Road Bridge over the Glimmer Glass, Brielle Rd. over The Glimmer Glass, Manasquan, 08000336.

OREGON

Jackson County

Putnam—Neff House, 227 N. Berkeley Wy., Medford, 08000337.

SOUTH CAROLINA

Greenville County

Woodson, Azariah and Henry F., Farmstead, 840 & 856 Beech Springs Rd., Pelzer, 08000338.

TEXAS

Chambers County

Chambers County Courthouse, 404 Washington St., Anahuac, 08000339.

VIRGINIA

Albemarle County

Carr's Hill, 1910 Carr's Hill Rd., Charlottesville, 08000340.

Richmond Independent City

United Daughters of the Confederacy Memorial Building, 328 North Blvd., Richmond (Independent City), 08000341.

[FR Doc. E8-6505 Filed 3-28-08; 8:45 am]

BILLING CODE 4312-51-P